DEPARTMENT OF COMMERCE

International Trade Administration

[A-570-904]

Certain Activated Carbon From the People's Republic of China: Notice of Final Results of Antidumping Duty Changed Circumstances Review

AGENCY: Enforcement and Compliance, International Trade Administration, Department of Commerce.

SUMMARY: On October 8, 2021, the Department of Commerce (Commerce) published the initiation and preliminary results of a changed circumstances review (CCR) of the antidumping duty (AD) order on certain activated carbon (activated carbon) from the People's Republic of China (China). For these final results, Commerce continues to find that Ningxia Huahui Environmental Technology Co., Ltd. (Huahui Environmental) is the successor in-interest to Ningxia Huahui Activated Carbon Co., Ltd. (Ningxia Huahui) and should be assigned the same AD cash deposit rate assigned to Ningxia Huahui for purposes of determining AD liability in this proceeding.

DATES: Applicable November 17, 2021.

FOR FURTHER INFORMATION CONTACT: Jinny Ahn, AD/CVD Operations, Office VIII, Enforcement and Compliance, International Trade Administration, Department of Commerce, 1401 Constitution Avenue NW, Washington, DC 20230; telephone: (202) 482-0339.

SUPPLEMENTARY INFORMATION:

Background

On October 8, 2021, Commerce published the Initiation and Preliminary Results,¹ finding that Huahui Environmental is the successor-in-interest to Ningxia Huahui and should be assigned the same AD cash deposit rate assigned to Ningxia Huahui for purposes of determining AD liability in this proceeding.² In the Initiation and Preliminary Results, we provided all interested parties with an opportunity to comment and request a public hearing regarding our preliminary finding.³ We received no comments or requests for a public hearing from interested parties.

¹ See Certain Activated Carbon from the People's Republic of China: Notice of Initiation and Preliminary Results of Antidumping Duty Changed Circumstances Review, 86 FR 56248 (October 8, 2021) (Initiation and Preliminary Results), and accompanying Preliminary Decision Memorandum.

² See Initiation and Preliminary Results, 86 FR at 56248.

³ Id.

Scope of the Order ⁴

⁴ See Notice of Antidumping Duty Order: Certain Activated Carbon from the People's Republic of China, 72 FR 20988 (April 27, 2007) (Order).

The merchandise covered by the scope of the Order is activated carbon. For a complete description of the scope of the Order, see the Preliminary Decision Memorandum.

Final Results of Changed Circumstances Review

For the reasons stated in the Initiation and Preliminary Results, and because we received no comments from interested parties to the contrary, Commerce continues to find that Huahui Environmental is the successor-in-interest to Ningxia Huahui and should be assigned the same AD cash deposit rate assigned to Ningxia Huahui for purposes of determining AD liability in this proceeding.⁵ As a result of this determination and consistent with established practice, we find that Huahui Environmental should receive the cash deposit rate previously assigned to Ningxia Huahui in the most recently completed review of the Order. The cash deposit rate assigned to Ningxia Huahui in the most recently completed review was $0.65 per kilogram.⁶ Consequently, Commerce will instruct U.S. Customs and Border Protection to suspend liquidation of all shipments of subject merchandise exported by Huahui Environmental and entered, or withdrawn from warehouse, for consumption on or after the publication date of this notice in the Federal Register at $0.65 per kilogram, which is the current AD cash deposit rate for Ningxia Huahui. This cash deposit requirement shall remain in effect until further notice.

⁵ See Initiation and Preliminary Results, 86 FR at 56248.

⁶ See Certain Activated Carbon from the People's Republic of China: Final Results of Antidumping Duty Administrative Review, Final Determination of No Shipments, and Final Rescission of Administrative Review, in Part; 2018-2019, 86 FR 10539 (February 22, 2021).

Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing this determination and publishing these final results and notice in accordance with sections 751(b)(1) and 777(i)(1) and (2) of the Tariff Act of 1930, as amended, and 19 CFR 351.216 and 351.221(c)(3).

Dated: November 10, 2021.
Ryan Majerus,
Deputy Assistant Secretary for Policy and Negotiations, performing the non-exclusive functions and duties of the Assistant Secretary for Enforcement and Compliance.

[FR Doc. 2021-25099 Filed 11-16-21; 8:45 am]

BILLING CODE 3510-DS-P